DEPARTMENT OF COMMERCE

National Oceanic and Atmospheric Administration

[I.D. 061804B]

Marine Mammals and Endangered Species; File Nos. 782-1719, 774-1714, 1029-1675, 662-1661, 1039-1699, 473-1700, 1049-1718, 716-1705, 753-1599, and 642-1536

AGENCY: National Marine Fisheries Service (NMFS), National Oceanic and Atmospheric Administration (NOAA), Commerce.

ACTION: Issuance of permits and permit amendments.

SUMMARY: Notice is hereby given that a permit or permit amendment has been issued to the following applicants for purposes of scientific research:

782-1719 - National Marine Mammal Laboratory (NMML), National Marine Fisheries Service, NOAA, 7600 Sand Point Way, NE, BIN C15700, Bldg. 1, Seattle, WA 98115-0070 (John Bengtson, Ph.D., Principal Investigator);

774-1714 - Southwest Fisheries Science Center (SWFSC), National Marine Fisheries Service, 8604 La Jolla Shores Drive, La Jolla, CA 92037 (Stephen Reilly, Ph.D., Principal Investigator);

1029-1675 - Andrew Szabo, Whale Research Lab, Department of Geography, University of Victoria, Victoria, British Columbia V8W 2Y2, Canada;

662-1661 - Dena Matkin, Box 22, Gustavus, AK 99826;

1039-1699 - Ann Zoidis, Allied Whale, 11 Des Isle Avenue, PO Box 885, Bar Harbor, ME 04609;

473-1700 - Janice Straley, University of Alaska Southeast, 1332 Seward Avenue, Sitka, AK 99835;

1049-1718 - Kate Wynne, University of Alaska Fairbanks, School of Fisheries and Ocean Sciences, 118 Trident Way, Kodiak, AK 99615;

716-1705 - Fred Sharpe, Ph.D., Alaska Whale Foundation, 4739 University Way NE, #1239, Seattle, WA 98105;

753-1599 - Jim Darling, Ph.D., 2155 West 13th Avenue, Vancouver, B.C. VOR 2Z0, Canada; and

642-1536 - Joseph R. Mobley, Jr., Ph.D., Professor Psychology, University of Hawaii - West Oahu, 96-129 Ala Ike, Pearl City, HI 96782.

ADDRESSES: The permits, permit amendments and related documents are available for review upon written request or by appointment. (See SUPPLEMENTARY INFORMATION)

FOR FURTHER INFORMATION CONTACT: Ruth Johnson or Jill Lewandowski, (301)713-2289.

SUPPLEMENTARY INFORMATION: On the dates listed below, notice was published in the Federal Register that requests for a scientific research permit or permit amendment to take various marine mammal and sea turtle species had been submitted by the above-named individuals or organizations. The requested permits or permit amendments have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

782-1719 (NMML) and 774-1714 (SWFSC) - notice published on June 4, 2003 (68 FR 33477);

473-1700 (Straley), 662-1661 (Matkin) and 1039-1699 (Zoidis) - notice published on January 21, 2003 (68 FR 2751);

1049-1718 (Wynne) - first notice published on July 18, 2003 (68 FR 42689) and second notice outlining the applicant's changes to their application published on March 9, 2004 (69 FR 10991);

716-1705 (Sharpe) - notice published on June 24, 2003 (68 FR 37466);

1029-1675 (Szabo) - notice published on June 3, 2002 (67 FR 38262);

753-1599 (Darling) - notice published on October 17, 2003 (68 FR 59782) to amend Permit No. 753-1599-00 originally issued on December 27, 2000 (66 FR 1957); and

642-1536 (Mobley) - notice published on January 5, 2004 (69 FR 630) to amend Permit No. 642-1536-00 originally issued on March 3, 2000 (65 FR 13949).

In compliance with the National Environmental Policy Act of 1969 (42 U.S.C. 4321 et seq.), an environmental assessment was prepared analyzing the effects of the permitted activities. After a Finding of No Significant Impact, the determination was made that it was not necessary to prepare an environmental impact statement.

Issuance of these permits and permit amendments, as required by the ESA, was based on a finding that such permits or permit amendments (1) were applied for in good faith, (2) will not operate to the disadvantage of the endangered species which are the subject of the permits and permit amendments, and (3) are consistent with the purposes and policies set forth in section 2 of the ESA.

Documents may be reviewed in the following locations:

All documents: Permits, Conservation and Education Division, Office of Protected Resources, NMFS, 1315 East-West Highway, Room 13705, Silver Spring, MD 20910; phone (301)713-2289; fax (301)713-0376;

File Nos. 782-1719, 716-1705, and 753-1599: Northwest Region, NMFS, 7600 Sand Point Way NE, BIN C15700, Bldg. 1, Seattle, WA 98115-0700; phone (206)526-6150; fax (206)526-6426;

File Nos. 782-1719, 1029-1675, 662-1661, 473-1700, 1049-1718, and 716-1705: Alaska Region, NMFS, P.O. Box 21668, Juneau, AK 99802-1668; phone (907)586-7221; fax (907)586-7249;

File Nos. 774-1714 and 753-1599: Southwest Region, NMFS, 501 West Ocean Blvd., Suite 4200, Long Beach, CA 90802-4213; phone (562)980-4001; fax (562)980-4018; and

File Nos. 1039-1699, 753-1599, and 642-1536: Pacific Islands Region, NMFS, 1601 Kapiolani Blvd., Rm, 1110, Honolulu, HI 96814-4700; phone (808)973-2935; fax (808)973-2941.

Dated: July 20, 2004.
Stephen L. Leathery,
Chief, Permits, Conservation and Education Division, Office of Protected Resources, National Marine Fisheries Service.

[FR Doc. 04-16958 Filed 7-23-04; 8:45 am]

BILLING CODE 3510-22-S